DEPARTMENT OF JUSTICE

Notice of Lodging of Consent Decree Pursuant to the Comprehensive Environmental Response, Compensation, and Liability Act

In accordance with Departmental policy, 29 CFR 50.7, notice is hereby given that two proposed consent decrees in United States v. Advanced Ross Sub Company et al., and United States v. Atlantic Richfield Company, et al., Civil Action No. C03-5117RJB were lodged on March 3, 2003, with the United States District Court for the Western District of Washington. These consent decrees require the defendants require the defendants to perform injunctive relief, requiring two groups of performing parties to perform the cleanup of the Thea Foss and Wheeler Osgood Waterway Problem Areas of the Commencement Bay/Nearshore Tideflats Superfund Site and the funding parties to pay a total of $13,000,000 to fund cleanup activities at the Site.

The Department of Justice will receive, for a period of thirty (30) days from the date of this publication, comments relating to the proposed consent decrees. Comments should be addressed to the Assistant Attorney General, Environmental and Natural Resources Division, PO Box 7611, U.S. Department of Justice, Washington, DC 20044-7611, and should refer to United States v. Advance Ross Sub Company et al., DOJ Ref. # 90-11-2-1049/2.

The proposed consent decrees may be examined at the office of the United States Attorney, 601 Union Street, Suite 5100, Seattle, WA 98101 and at U.S. EPA Region 10, 1200 Sixth Avenue, Seattle, WA 98101. During the comment period, the consent decrees may be examined on the following Department of Justice Web site, http://www.usdoj.gov/enrd/open.html. Copies of the consent decrees also may be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $161.25 (with attachments) or $28.00 (without attachments) for United States v. Advance Ross Sub Company et al., and/or the amount of $184.50 (with attachments) or $41.00 (without attachments) for United States v. Atlantic Richfield Company, et al., (25 cents per page reproduction cost) payable to the U.S. Treasury.

Robert Maher,
Assistant Section Chief, Environmental Enforcement Section.

[FR Doc. 03-5879 Filed 3-11-03; 8:45 am]

BILLING CODE 4410-15-M